SURFACE TRANSPORTATION BOARD

[Docket No. AB 1238X]

Wisconsin Chicago Link Ltd.—Discontinuance of Service Exemption—in Cook County, Ill.

Wisconsin Chicago Link Ltd. (WCLL), filed a verified notice of exemption under 49 CFR part. 1152 subpart F—Exempt Abandonments and Discontinuances of Service to discontinue service over two segments of rail line (the Line), consisting of approximately 4 miles of railroad in Chicago, Cook County, Ill. The first segment is leased by WCLL from Norfolk Southern Railway Company (NSR), the successor to Pennsylvania Lines LLC (PLLC). That leased segment extends between approximately milepost 309.8 (at a connection with CSX Transportation, Inc., by way of the Altenheim Subdivision of the Baltimore and Ohio Chicago Terminal Railroad Company at Ogden Junction near Rockwell Street), and approximately milepost 307.9 (600 feet north of the north bank of the Chicago Sanitary and Ship Canal, near the Ash Street Interlock). The second segment consists of roughly two miles of overhead trackage rights (incidental to the leased segment), extending south from milepost 307.9, which trackage rights were intended to facilitate present or future connections with other railroads. Wis. Chi. Cent. Ltd.—Lease Exemption—Pa. Lines LLC, FD 33831 (STB served Feb. 10, 2000). The Line traverses United States Postal Service Zip Codes 60608, 60609, and 60632.

WCLL has certified that: (1) No local traffic has moved over the Line for at least two years; (2) any overhead traffic can be rerouted over other lines; (3) no formal complaint filed by a user of rail service on the Line (or by a state or local government entity acting on behalf of such user) regarding cessation of service over the Line is pending either with the Surface Transportation Board or any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will become effective on April 14, 2016, unless stayed pending reconsideration. Petitions to stay that do not involve environmental issues and formal expressions of intent to file an OFA to subsidize continued rail service under 49 CFR 1152.27(c)(2) ¹ must be filed by March 25, 2016.² Petitions to reopen must be filed by April 4, 2016, with the Surface Transportation Board, 395 E Street SW., Washington, DC 20423-0001.

¹ Each OFA must be accompanied by the filing fee, which is currently set at $1,600. See 49 CFR 1002.2(f)(25).

² Because this is a discontinuance proceeding and not an abandonment, interim trail use/rail banking and public use conditions are not appropriate.

A copy of any petition filed with the Board should be sent to WCLL's representative: Robert A. Wimbish, Fletcher & Sippel LLC, 29 North Wacker Drive, Suite 920, Chicago, IL 60606.

If the verified notice contains false or misleading information, the exemption is void ab initio.

Because there will be an environmental review during an abandonment, this discontinuance does not require an environmental review.

Board decisions and notices are available on our Web site at “WWW.STB.DOT.GOV.”

Decided: March 10, 2016.
By the Board, Rachel D. Campbell, Director, Office of Proceedings.
Jeffrey Herzig,
Clearance Clerk.

[FR Doc. 2016-05815 Filed 3-14-16; 8:45 am]

BILLING CODE 4915-01-P